OFFICE OF THE UNITED STATES TRADE REPRESENTATIVE

DEPARTMENT OF COMMERCE

Request for Public Views

April 3, 2000.

AGENCIES: Office of the United States Trade Representative and Department of Commerce.

ACTION: Request for public views on procedures for obtaining trade policy advice from nongovernmental organizations.

SUMMARY: Recently the United States Trade Representative (the USTR) and the Secretary of Commerce (the Secretary) announced a joint initiative to enhance opportunities for nongovernmental organizations to provide their views to the Administration on key trade issues. As part of that initiative USTR and Commerce are seeking comments and suggestions from the public on ways to strengthen channels of communication between these groups and the Administration on trade policy matters.

DATES: Written comments should be sent no later than July 10, 2000 to the Office of the United States Trade Representative at the address indicated below.

FOR FURTHER INFORMATION: Contact Pate Felts, Assistant USTR for Intergovernmental Affairs and Public Liaison ((202) 395-6120), or Patrick Morris, Director of the Office of Export Promotion Coordination, Department of Commerce ((202) 482-4501).

SUPPLEMENTARY INFORMATION: Congress and the Administration have established a variety of advisory committees from which the Executive Branch solicits and obtains advice on trade policy matters, including from environmental, labor, and consumer groups. Section 2155 of title 19, U.S. Code, establishes a three-tier trade policy advisory committee system, with one committee addressing overall policy advice, several committees providing advice on more specific policy issues, and a larger number of committees covering sectoral, technical, or functional issues.

The Administration seeks trade policy advice from environmental, labor, consumer, and other groups through three advisory committees. Specifically, the Advisory Committee for Trade Policy and Negotiations (ACTPN) provides the President and the USTR with broad advice on trade matters. The ACTPN membership is drawn from chief executive officers of agriculture, consumer, environment, industry, and labor groups. The President has also established a Trade and Environment Policy Advisory Committee (TEPAC), which primarily addresses trade and environment issues. TEPAC members are drawn from agriculture, consumer, environmental, industry, and labor groups, and from non-federal governments. A Labor Advisory Committee (LAC) provides advice on trade issues and labor. The LAC is administered by the Department of Labor and is composed exclusively of labor union representatives.

The Administration seeks trade policy advice on environmental, labor, consumer, and other issues in other ways as well. For example, in formulating specific U.s. objectives in major trade negotiations, USTR routinely solicits written comments from the public, consults with interested constituencies, holds public hearings, and meets with a broad spectrum of non-governmental groups at their request.

On January 11, 2000, the Secretary and the USTR announced an initiative to seek views from the public on ways to enhance the effectiveness of Administration efforts to obtain advice from non-governmental organizations on important trade policy matters. Through this notice, USTR and Commerce are seeking comments from the public on changes to the advisory committee system that would help to ensure that the Administration obtains timely, relevant trade policy advice from consumer, environmental, labor, and other non-governmental organizations.

Public Comments

Persons wishing to submit written comments should provide twenty (20) typed copies no later than July 10, 2000 to Gloria Blue, Office of the U.S. Trade Representative, Room 122, 600 17th Street, NW., Washington, DC 20508.

Written comments submitted in connection with this request will be available for inspection in the USTR Reading Room. An appointment to review the file at USTR may be made by calling Brenda Webb (202) 395-6186. The USTR Reading Room is located at the Office of the United States Trade Representative, 600 17th Street, NW, Washington, DC and is open to the public from 9:30 a.m. to 12 noon, and from 1 p.m. to 4 p.m., Monday through Friday.

Pate Felts,
Assistant United States Trade Representative, Intergovernmental Affairs and Public Liaison.
Michael J. Copps,
Assistant Secretary for Trade Development, U.S. Department of Commerce.

[FR Doc. 00-8931 Filed 4-10-00; 8:45 am]

BILLING CODE 3190-01-M